INTERNATIONAL TRADE COMMISSION

[Investigation No. 337-TA-1402]

Certain High-Strength Aluminum or Aluminum Alloy-Coated Steel, and Automotive Products and Automobiles Containing Same; Notice of a Commission Determination To Review a Final Initial Determination and, on Review, To Affirm the Final Initial Determination's Finding of No Violation of Section 337; Termination of the Investigation

AGENCY: U.S. International Trade Commission.

ACTION: Notice.

SUMMARY: Notice is hereby given that U.S. International Trade Commission (“Commission”) has determined to review a final initial determination (“ID”) of the presiding administrative law judge (“ALJ”) and, on review, the Commission has determined to affirm the ID's finding of no violation of section 337. The investigation is terminated.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 24, 2024, based on a complaint (the “Complaint”) filed on behalf of Complainant ArcelorMittal of Luxembourg. 89 FR 45922-23 (May 24, 2024). The Complaint, as supplemented, alleged violations of section 337 of the Tariff Act of 1930, as amended, 19 U.S.C. 1337, based on the importation into the United States, the sale for importation, and the sale within the United States after importation of certain high-strength aluminum or aluminum alloy-coated steel, and automotive products and automobiles containing same by reason of infringement of claims 1-3, 5-10, 12, 20-22, 24-26, and 28 of U.S. Patent No. 10,961,602 (“the '602 patent”), and claims 1, 2, 4-11, 13, 15-17, 22, 24, and 25 of U.S. Patent No. 11,326,227 (“the '227 patent”). Id. at 45923. The Complaint further alleges that a domestic industry exists. Id. at 45922.

The Commission's notice of investigation named as respondents VinFast Auto Ltd. and VinFast Trading and Production JSC of Hai Phong City, Vietnam; and VinFast Auto, LLC, VinFast USA Distribution, LLC, and Vingroup USA, LLC of Los Angeles, California (collectively, “Respondents”). Id. at 45923. The Office of Unfair Import Investigations is not participating in this investigation. Id.

An evidentiary hearing was held on March 3-7, 2025, and the ALJ issued the final ID on July 18, 2025, finding no violation of section 337. Complainant filed a petition for review of the ID on August 1, 2025. Respondents also filed a petition for review of the ID on August 1, 2025. Complainant and Respondents filed responses in opposition to their respective petitions on August 11, 2025.

Having reviewed the record of the investigation, including the final ID, the parties' submissions to the ALJ, and the petitions for review and responses thereto, the Commission has determined to review the final ID, and, on review, the Commission has determined to affirm the final ID's finding of no violation of section 337.

Specifically, the Commission has determined to affirm the final ID's findings on statutory authority and importation and the finding that claims 1-4, 7-10, 18, 20-22, 24, and 26 of the '602 patent, and claims 1, 2, 4, 5, 7, 9, 10, 13, 15-17, and 24 of the '227 patent are invalid as anticipated by the 2006 Volkswagen Passat. The Commission thus determines that the domestic industry requirement is not satisfied, because the claims that Complainant has asserted to be practiced by its domestic industry articles are invalid, and therefore Complainant has failed to satisfy the technical prong of the domestic industry requirement. See Certain Vision-Based Driver Assistance System Cameras and Components Thereof, Inv. No. 337-TA-907, Comm'n Op. at 36-37 (Dec. 1, 2015). Accordingly, there is no violation of section 337. The Commission has further determined to take no position on the remaining findings in the final ID with respect to infringement, whether the domestic industry articles practice claims of the asserted patents, the economic prong of the domestic industry requirement, and other invalidity grounds. See Beloit Corp. v. Valmet Oy, 742 F.2d 1421, 1424 (Fed. Cir. 1984). The investigation is hereby terminated.

The Commission vote for this determination took place on September 18, 2025.

This action is taken under the authority of section 337 of the Tariff Act of 1930, as amended (19 U.S.C. 1337), and in Part 210 of the Commission's Rules of Practice and Procedure (19 CFR part 210).

By order of the Commission.
Issued: September 18, 2025.
Sharon Bellamy,
Supervisory Hearings and Information Officer.

[FR Doc. 2025-18371 Filed 9-22-25; 8:45 am]

BILLING CODE 7020-02-P